DEPARTMENT OF STATE

[Public Notice 8645]

30-Day Notice of Proposed Information Collection: Medical History and Examination for Foreign Service

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to March 27, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Susan B. Summers—Chief, Medical Clearances at Department of State, Office of Medical Clearances, SA-15 Room 400, 1800 North Kent St. Rosslyn, VA. 22209, who may be reached on (703) 875-5413 or at summerssb@state.gov.

SUPPLEMENTARY INFORMATION: • Title of Information Collection: Medical History and Examination for Foreign Service

• OMB Control Number: 1405-0068

• Type of Request: Emergency Review

• Originating Office: M/MED/MC

• Form Number: DS-1843, DS-1622

• Respondents: Foreign Service candidates who have been given provisional offers of employment and other individuals who participate in the Department of State's Medical Program.

• Estimated Number of Respondents: 10,000

• Estimated Number of Responses: 10,000

• Average Time per Response: 1 Hour

• Total Estimated Burden Time: 10,000 Hours

• Frequency: Once after conditional offer of employment, and, during the employment of the member of the Foreign Service, at intervals between assignments abroad.

• Obligation To Respond: Mandatory

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Pursuant to the Foreign Service Act of 1980, as amended, the Secretary of State has the authority to establish a Medical Program, and the information at issue is collected in accordance with 22 U.S.C. 4084, 3901, and 3984. The information collected in Form DS-1843 is needed to determine whether a candidate for a Foreign Service appointment can obtain the medical clearance that is a requirement of the appointment. Additionally, the information collected in Form DS-1843 and Form DS-1622 is used to provide and to update medical clearances for individuals who participate in the Medical Program.

Methodology: After the individual and his or her health care provider complete the form, it can be faxed or scanned and emailed to MEDMR@state.gov.

Dated: February 12, 2014.
Ernest E. Davis,
Director of Medical Clearances, Office of Medical Services, Department of State.

[FR Doc. 2014-04063 Filed 2-24-14; 8:45 am]

BILLING CODE 4710-36-P